DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by October 4, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: New York University College of Dentistry, New York, NY, PRT-158094

The applicant requests a permit to import biological samples of skeletal parts salvaged from both captive and wild populations of black rhinoceros (Diceros bicornis), mountain gorilla (Gorilla gorilla beringei), chimpanzee (Pan troglodytes), leopard (Panthera pardus), and L'Hoest's monkey (Cercopithecus lhoesti) in Rwanda for the purpose of scientific research into stress management in wildlife populations.

Applicant: Los Angeles Zoo, Los Angeles, CA, PRT-158940

The applicant requests a permit to import one male and one female captive born giant otter (Pteronura brasiliensis) for the purpose of enhancement of the survival of the species.

Applicant: The Institute for Greatly Endangered and Rare Species (T.I.G.E.R.S.), Myrtle Beach, SC, PRT-152116

The applicant requests a permit to export two male and four female captive-born generic tigers (Panthera tigris) to the Samutprakarn Crocodile Farm and Zoo, Samutprakarn, Thailand, for the purpose of enhancement of the species through conservation education.

Dated: July 27, 2007.
Michael L. Carpenter,
Senior Permit Biologist, Branch of Permits, Division of Management Authority.

[FR Doc. E7-17429 Filed 8-31-07; 8:45 am]

BILLING CODE 4310-55-P